NUCLEAR REGULATORY COMMISSION

[IA-05-007]

In the Matter of Joseph Guariglia; Confirmatory Order (Effective Immediately)

I

Mr. Joseph Guariglia (Mr. Guariglia) is employed by Nine Mile Point Nuclear Station, LLC, at the Nine Mile Point Nuclear Station. The facility is located in Lycoming, NY. In June 2000, Mr. Guariglia was a fire protection supervisor at the facility.

II

Following the receipt of information in January 2004, an investigation was initiated by the NRC's Office of Investigations (OI), Region I, on February 3, 2004, at the Nine Mile Point Nuclear Station. This investigation was initiated to determine whether Mr. Guariglia deliberately violated conditions of the Nine Mile Point Unit 2 license by compromising an unannounced fire drill in June 2000. Based on the evidence developed during its investigation, OI substantiated that Mr. Guariglia deliberately compromised the unannounced fire drill in June 2000. Mr. Guariglia was informed of the NRC finding in a letter dated March 18, 2005.

III

In response to the NRC's March 18, 2005 letter, Mr. Guariglia requested the use of Alternative Dispute Resolution (ADR) to resolve this matter. ADR is a process in which a neutral mediator, with no decision-making authority, assisted the NRC and Mr. Guariglia to resolve any disagreements on whether a violation occurred, the appropriate enforcement action, and the appropriate corrective actions. An ADR session was held between Mr. Guariglia and the NRC in Philadelphia, PA, on June 22, 2005, and was mediated by a professional mediator, arranged through Cornell University's Institute of Conflict Management. During that ADR session, a settlement agreement was reached. The elements of the settlement agreement consisted of the following:

1. The NRC determined that a violation occurred when an unannounced fire drill at Nine Mile Point Unit 2 was compromised in June 2000. This was contrary to technical specifications and 10 CFR Part 50, Appendix R, which require that persons planning and authorizing an unannounced fire drill shall ensure that the responding shift fire brigade members are not aware that a fire drill is being planned until it is begun.

2. The NRC maintains that Mr. Guariglia deliberately compromised the fire drill when he called the fire brigade leader to inform him of its time and location. Because Mr. Guariglia's deliberate actions placed Nine Mile Point 2 in violation of NRC requirements, Mr. Guariglia was in violation of 10 CFR 50.5. Mr. Guariglia maintains that he does not recall the specifics associated with this fire drill. However, in light of the evidence available, Mr. Guariglia agreed that the fire drill was compromised and agreed that he was in violation of 10 CFR 50.5.

3. Mr. Guariglia, subsequent to the identification of this violation, will take actions to assure that he learned from this violation and provide the NRC with assurance that it will not recur. These actions include (a) writing an article to share with the Constellation fleet that explains the importance of following procedural requirements, maintaining the integrity of unannounced fire drills, and maintaining a questioning attitude to verify and validate decisions and (b) prior to December 31, 2005, participating in a stand-down meeting with appropriate fire protection staff and describing the lessons learned from the compromised fire drill and the importance of raising concerns when an issue does not comply with requirements.

4. In light of Mr. Guariglia's agreement to Items 1 and 2 and the actions he will take as described in Item 3, the NRC agrees to issue a Notice of Violation without a specified severity level, to Mr. Guariglia. The NRC will place the Notice of Violation, which will be publically available in ADAMS, on the NRC “Significant Enforcement Actions—Individuals” website. The Notice of Violation will be placed on the “Significant Enforcement Actions—Individuals” Web site no longer than 1 year.

5. Mr. Guariglia agreed to issuance of a Confirmatory Order confirming this agreement.

IV

Since Mr. Guariglia has agreed to take additional actions to address NRC concerns, as set forth in Section III above, the NRC has concluded that its concerns can be resolved through the NRC's confirmation of the commitments as outlined in this Confirmatory Order.

I find that Mr. Guariglia's commitments as set forth in Section III above are acceptable. However, in view of the foregoing, I have determined that these commitments shall be confirmed by this Confirmatory Order. Based on the above and Mr. Guariglia's consent, this Confirmatory Order is immediately effective upon issuance.

V

Accordingly, pursuant to Sections 103, 161b, 161i, 161o, 182, and 186 of the Atomic Energy Act of 1954, as amended, and the Commission's regulations in 10 CFR 2.202 and 10 CFR part 50, It is hereby ordered, that prior to December 31, 2005:

1. Mr. Guariglia shall write an article to share with the Constellation fleet that explains the importance of following procedural requirements, maintaining the integrity of unannounced fire drills, and maintaining a questioning attitude to verify and validate decisions.

2. Mr. Guariglia shall participate in a stand-down meeting with appropriate fire protection staff and describe the lessons learned from the compromised fire drill and the importance of raising concerns when an issue does not comply with requirements.

3. Mr. Guariglia shall notify the NRC, in writing, within 30 days of completion of the actions described in Items 1 and 2 above.

The Director, Office of Enforcement, may relax or rescind, in writing, any of the above conditions upon a showing by Mr. Guariglia of good cause.

VI

Any person adversely affected by this Confirmatory Order, other than Mr. Guariglia, may request a hearing within 20 days of its issuance. Where good cause is shown, consideration will be given to extending the time to request a hearing. A request for extension of time must be made in writing to the Director, Office of Enforcement, U.S. Nuclear Regulatory Commission, Washington, DC 20555, and must include a statement of good cause for the extension. Any request for a hearing shall be submitted to the Secretary, U.S. Nuclear Regulatory Commission, Attn: Chief, Rulemaking and Adjudications Staff, Washington, DC 20555. Copies of the hearing request shall also be sent to the Director, Office of Enforcement, U.S. Nuclear Regulatory Commission, Washington DC 20555, to the Assistant General Counsel for Materials Litigation and Enforcement, to the Director of the Division of Regulatory Improvement Programs at the same address, and to Mr. Guariglia. Because Mr. Guariglia's home address has been deleted pursuant to 10 CFR 2.390, his copy should be provided to the NRC Office of Enforcement who will forward it to Mr. Guariglia. Because of continuing disruptions in delivery of mail to United States Government offices, it is requested that answers and requests for hearing be transmitted to the Secretary of the Commission either by means of facsimile transmission to 301-415-1101 or by e-mail to hearingdocket@nrc.gov and also to the Office of the General Counsel by means of facsimile transmission to 301-415-3725 or e-mail to OGCMailCenter@nrc.gov. If such a person requests a hearing, that person shall set forth with particularity the manner in which his interest is adversely affected by this Order and shall address the criteria set forth in 10 CFR 2.714(d).

If a hearing is requested by a person whose interest is adversely affected, the Commission will issue an Order designating the time and place of any hearing. If a hearing is held, the issue to be considered at such hearing shall be whether this Confirmatory Order shall be sustained. An answer or a request for a hearing shall not stay the effectiveness date of this Order.

Dated this 18th day of August, 2005.
For the Nuclear Regulatory Commission.
Michael Johnson,
Director, Office of Enforcement.

[FR Doc. E5-4686 Filed 8-25-05; 8:45 am]

BILLING CODE 7590-01-P